DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: March 21, 2019, 10:00 a.m.

PLACE: Room 2C, 888 First Street NE, Washington, DC 20426.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1053rd Meeting—Open Meeting
[March 21, 2019, 10:00 a.m.]
Item No. | Docket No. | Company
Administrative
A-1 | AD19-1-000 | Agency Administrative Matters.
A-2 | AD19-2-000 | Customer Matters, Reliability, Security and Market Operations.
Electric
E-1 | PL19-3-000 | Inquiry Regarding the Commission's Electric Transmission Incentives Policy.
E-2 | PL19-4-000 | Inquiry Regarding the Commission's Policy for Determining Return on Equity.
E-3 | Omitted |
E-4 | TX19-1-000 | Mountain Breeze Wind, LLC.
E-5 | EC19-36-000 | NextEra Energy Transmission, LLC and Trans Bay Cable LLC.
E-6 | EC98-2-001, ER18-2162-000 | Louisville Gas and Electric Company; Kentucky Utilities Company.
E-7 | ES19-5-000 | Cube Yadkin Transmission LLC.
E-8 | ER19-654-000, EL18-79-000 | Cheyenne Light, Fuel and Power Company.
E-9 | ER16-120-007 | New York Independent System Operator, Inc.
E-10 | ER18-2397-000, ER18-2397-001 | Midcontinent Independent System Operator, Inc.
E-11 | ER18-2401-000, ER18-2401-001 | PJM Interconnection, L.L.C.
E-12 | ER18-2318-000, ER18-2318-001 | Southwest Power Pool, Inc.
E-13 | ER18-829-001 | Wisconsin Electric Power Company.
E-14 | ER09-548-000 | ITC Great Plains, LLC.
E-15 | ER17-1553-002 | Duke Energy Progress, LLC.
E-16 | ER18-2428-001 | Public Service Company of Colorado.
E-17 | EL18-104-001 | NorthWestern Corporation.
E-18 | EL14-9-002 | Gregory and Beverly Swecker v. Midland Power Cooperative.
| EL14-18-002 | Gregory and Beverly Swecker v. Midland Power Cooperative and Central Iowa Power Cooperative.
| QF11-424-006 | Gregory and Beverly Swecker.
E-19 | Omitted |
E-20 | Omitted |
E-21 | EL19-6-000 | City of Alexandria, Louisiana v. Cleco Power LLC.
E-22 | EL19-17-000 | Kansas Electric Power Cooperative, Inc. v. Westar Energy, Inc.
Gas
G-1 | RP19-389-000. | BP Energy Company; Equinor Natural Gas LLC (FKA Statoil Natural Gas LLC); and Shell NA LNG LLC v. Dominion Energy Cove Point LNG, LP.
G-2 | RP19-310-000 | Arena Energy, LP; Castex Offshore, Inc.; EnVen Energy Ventures, LLC; Fieldwood Energy LLC; Walter Oil & Gas Corporation; and W&T Offshore, Inc. v. High Point Gas Transmission, LLC.
G-3 | OR15-25-002 | BP Products North America Inc. v. Sunoco Pipeline L.P.
Hydro
H-1 | Omitted |

Issued: March 14, 2019.
Nathaniel J. Davis, Sr.,
Deputy Secretary.

A free webcast of this event is available through http://ferc.capitolconnection.org/. Anyone with internet access who desires to view this event can do so by navigating to www.ferc.gov's Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2019-05508 Filed 3-19-19; 4:15 pm]

BILLING CODE 6717-01-P